DEPARTMENT OF ENERGY

Federal Energy Regulatory Commission

Combined Notice of Filings #1

December 27, 2010.

Take notice that the Commission received the following electric corporate filings:

Docket Numbers: EC11-33-000.

Applicants: Montauk Energy Holdings, LLC.

Description: Montauk Energy Holdings, LLC et al. submits application for authorization under Section 203 of the FPA request for expedited consideration and requesting authorization to transfer membership interest in Viridis Energy, LLC.

Filed Date: 12/23/2010.

Accession Number: 20101227-0201.

Comment Date: 5 p.m. Eastern Time on Thursday, January 13, 2011.

Take notice that the Commission received the following electric rate filings:

Docket Numbers: ER97-4314-012; ER01-2783-009; ER05-20-004.

Applicants: Old Dominion Electric Cooperative, Inc., TEC Trading, Inc., New Dominion Energy Cooperative.

Description: Triennial Market Power Update and Workpapers of Old Dominion Electric Cooperative, et al.

Filed Date: 12/23/2010.

Accession Number: 20101223-5167.

Comment Date: 5 p.m. Eastern Time on Tuesday, February 22, 2011.

Docket Numbers: ER01-468-012; ER00-3621-013; ER02-23-016; ER04-249-009; ER05-34-009; ER04-318-009; ER05-35-009; ER05-36-009; ER05-37-009; ER07-1306-008; ER08-1323-004; ER96-2869-017; ER97-30-010; ER97-3561-009; ER99-1695-018.

Applicants: Dominion Resources Services, Inc.; Dominion Energy Marketing, Inc.; Dominion Nuclear Connecticut, Inc.; Dominion Energy Kewaunee, Inc.; Dominion Energy Brayton Point, LLC; Dominion Energy Manchester Street, Inc.; Dominion Energy New England, Inc.; Dominion Energy Salem Harbor, LLC; Elwood Energy, LLC; Fairless Energy, LLC; NedPower Mt. Storm, LLC; Kincaid Generation, LLC; State Line Energy, LLC; Fowler Ridge wind Farm LLC; Virginia Electric and Power Company.

Description: Triennial Market Power Analyses of Dominion Resources Services, Inc., on behalf of Virginia Electric and Power Company and all affiliates with market-based rate authority.

Filed Date: 12/27/2010.

Accession Number: 20101227-5035.

Comment Date: 5 p.m. Eastern Time on Friday, February 25, 2011.

Docket Numbers: ER10-1246-001; ER10-1252-001; ER10-1253-001; ER10-1982-001.

Applicants: Orange & Rockland Utilities, Inc., Consolidated Edison Energy, Inc., Consolidated Edison Solutions, Inc., Consolidated Edison Company of New York.

Description: FERC Order 697 Triennial Market Power Filing of the Con Edison Companies.

Filed Date: 12/23/2010.

Accession Number: 20101223-5168.

Comment Date: 5 p.m. Eastern Time on Tuesday, February 22, 2011.

Docket Numbers: ER10-2010-001; ER10-1959-001; ER10-2007-001; ER10-2011-001; ER10-2012-001; ER10-2013-001; ER10-2014-001; ER10-2015-001; ER10-2017-001; ER10-2018-001; ER10-2021-001; ER10-2019-002; ER10-2024-001; ER10-3280-001.

Applicants: PPL Electric Utilities Corporation, PPL Great Works, LLC, PPL Maine, LLC, PPL Wallingford Energy LLC, PPL Holtwood LLC, Lower Mount Bethel Energy, LLC, PPL Martins Creek, LLC, PPL Brunner Island, LLC, PPL Montour, LLC, PPL Susquehanna, LLC, PPL New Jersey Solar, LLC, PPL New Jersey Biogas, LLC, PPL EnergyPlus, LLC, PPL University Park, LLC.

Description: Triennial Market-Based Rate Update for the Northeast Region.

Filed Date: 12/22/2010.

Accession Number: 20101222-5301.

Comment Date: 5 p.m. Eastern Time on Tuesday, February 22, 2011.

Docket Numbers: ER11-2318-000.

Applicants: California Independent System Operator Corporation.

Description: California Independent System Operator Corporation submits their Errata filing to Service Agreement 1774 etc.

Filed Date: 12/23/2010.

Accession Number: 20101223-5165.

Comment Date: 5 p.m. Eastern Time on Thursday, January 13, 2011.

Docket Numbers: ER11-2334-006.

Applicants: Midwest Independent Transmission System Operator, Inc.

Description: Midwest Independent Transmission System Operator, Inc. submits tariff filing per 35.17(b): (7) ATC Notice of Succession, to be effective 2/9/2011.

Filed Date: 12/23/2010.

Accession Number: 20101223-5028.

Comment Date: 5 p.m. Eastern Time on Thursday, January 13, 2011.

Docket Numbers: ER11-2345-001.

Applicants: Southwest Power Pool, Inc.

Description: Southwest Power Pool, Inc. submits tariff filing per 35.17(b): Amendment to Formula Update—KCPL, KCPL-GMO to be effective 1/1/2011.

Filed Date: 12/23/2010.

Accession Number: 20101223-5077.

Comment Date: 5 p.m. Eastern Time on Thursday, January 13, 2011.

Docket Numbers: ER11-2428-001.

Applicants: Southwest Power Pool, Inc.

Description: Southwest Power Pool, Inc. submits tariff filing per 35.17(b): Revisions to Clarify Losses Calculation Amendment to be effective 3/1/2011.

Filed Date: 12/27/2010.

Accession Number: 20101227-5029.

Comment Date: 5 p.m. Eastern Time on Tuesday, January 18, 2011.

Docket Numbers: ER11-2446-001.

Applicants: Blue Pilot Energy, LLC.

Description: Blue Pilot Energy, LLC submits tariff filing per 35.17(b): Blue Pilot Energy MBR Tariff Amendment to be effective 12/27/2010.

Filed Date: 12/23/2010.

Accession Number: 20101223-5132.

Comment Date: 5 p.m. Eastern Time on Thursday, January 13, 2011.

Docket Numbers: ER11-2504-000.

Applicants: GenOn Bowline, LLC.

Description: GenOn Bowline, LLC submits tariff filing per 35.13(a)(2)(iii): Notice of Succession to be effective 12/3/2010.

Filed Date: 12/23/2010.

Accession Number: 20101223-5061.

Comment Date: 5 p.m. Eastern Time on Thursday, January 13, 2011.

Docket Numbers: ER11-2505-000.

Applicants: GenOn Canal, LLC.

Description: GenOn Canal, LLC submits tariff filing per 35.13(a)(2)(iii): Notice of Succession to be effective 12/3/2010.

Filed Date: 12/23/2010.

Accession Number: 20101223-5063.

Comment Date: 5 p.m. Eastern Time on Thursday, January 13, 2011.

Docket Numbers: ER11-2506-000.

Applicants: GenOn Delta, LLC.

Description: GenOn Delta, LLC submits tariff filing per 35.13(a)(2)(iii): Notice of Succession to be effective 12/3/2010.

Filed Date: 12/23/2010.

Accession Number: 20101223-5064.

Comment Date: 5 p.m. Eastern Time on Thursday, January 13, 2011.

Docket Numbers: ER11-2507-000.

Applicants: Carthage Energy, LLC.

Description: Carthage Energy, LLC submits tariff filing per 35.37: Carthage Energy Revised Tariff (Dec 2010) to be effective 12/23/2010.

Filed Date: 12/23/2010.

Accession Number: 20101223-5065.

Comment Date: 5 p.m. Eastern Time on Thursday, January 13, 2011.

Docket Numbers: ER11-2508-000.

Applicants: GenOn Energy Management, LLC.

Description: GenOn Energy Management, LLC submits tariff filing per 35.13(a)(2)(iii): Notice of Succession, to be effective 12/3/2010.

Filed Date: 12/23/2010.

Accession Number: 20101223-5066.

Comment Date: 5 p.m. Eastern Time on Thursday, January 13, 2011.

Docket Numbers: ER11-2509-000.

Applicants: Energetix, Inc.

Description: Energetix, Inc. submits tariff filing per 35.37: Energetix Revised Tariff (Dec 2010), to be effective 12/23/2010.

Filed Date: 12/23/2010.

Accession Number: 20101223-5067.

Comment Date: 5 p.m. Eastern Time on Thursday, January 13, 2011.

Docket Numbers: ER11-2510-000.

Applicants: GenOn Kendall, LLC.

Description: GenOn Kendall, LLC submits tariff filing per 35.13(a)(2)(iii): Notice of Succession to be effective 12/3/2010.

Filed Date: 12/23/2010.

Accession Number: 20101223-5068.

Comment Date: 5 p.m. Eastern Time on Thursday, January 13, 2011.

Docket Numbers: ER11-2511-000.

Applicants: GenOn Potrero, LLC.

Description: GenOn Potrero, LLC submits tariff filing per 35.13(a)(2)(iii): MBR Notice of Succession to be effective 12/3/2010.

Filed Date: 12/23/2010.

Accession Number: 20101223-5069.

Comment Date: 5 p.m. Eastern Time on Thursday, January 13, 2011.

Docket Numbers: ER11-2512-000.

Applicants: Hartford Steam Company.

Description: Hartford Steam Company submits tariff filing per 35.37: Hartford Steam Revised Tariff (Dec 2010) to be effective 12/23/2010.

Filed Date: 12/23/2010.

Accession Number: 20101223-5070.

Comment Date: 5 p.m. Eastern Time on Thursday, January 13, 2011.

Docket Numbers: ER11-2513-000.

Applicants: Genon Power Midwest, LP.

Description: Genon Power Midwest, LP submits tariff filing per 35.13(a)(2)(iii): MBR Notice of Succession, to be effective 12/3/2010.

Filed Date: 12/23/2010.

Accession Number: 20101223-5071.

Comment Date: 5 p.m. Eastern Time on Thursday, January 13, 2011.

Docket Numbers: ER11-2514-000.

Applicants: PEI Power II, LLC.

Description: PEI Power II, LLC submits tariff filing per 35.37: PEI Power Revised Tariff (Dec 2010) to be effective 12/23/2010.

Filed Date: 12/23/2010.

Accession Number: 20101223-5072.

Comment Date: 5 p.m. Eastern Time on Thursday, January 13, 2011.

Docket Numbers: ER11-2515-000.

Applicants: GenOn REMA, LLC.

Description: GenOn REMA, LLC submits tariff filing per 35.13(a)(2)(iii): Notice of Succession to be effective 12/3/2010.

Filed Date: 12/23/2010.

Accession Number: 20101223-5073.

Comment Date: 5 p.m. Eastern Time on Thursday, January 13, 2011.

Docket Numbers: ER11-2516-000.

Applicants: NYSEG Solutions, Inc.

Description: NYSEG Solutions, Inc. submits tariff filing per 35.37: NYSEG Solutions Revised Tariff (Dec 2010) to be effective 12/23/2010.

Filed Date: 12/23/2010.

Accession Number: 20101223-5074.

Comment Date: 5 p.m. Eastern Time on Thursday, January 13, 2011.

Docket Numbers: ER11-2517-000.

Applicants: South Carolina Electric & Gas Transmission.

Description: South Carolina Electric & Gas Transmission submits tariff filing per 35: Attachment C—Compliance filing to be effective 12/23/2010.

Filed Date: 12/23/2010.

Accession Number: 20101223-5081.

Comment Date: 5 p.m. Eastern Time on Thursday, January 13, 2011.

Docket Numbers: ER11-2518-000.

Applicants: Tampa Electric Company.

Description: Tampa Electric Company submits tariff filing per 35.15: Cancellation of First Revised Service Agreement No. 5—FPC to be effective 2/28/2011.

Filed Date: 12/23/2010.

Accession Number: 20101223-5082.

Comment Date: 5 p.m. Eastern Time on Thursday, January 13, 2011.

Docket Numbers: ER11-2519-000.

Applicants: NorthWestern Corporation.

Description: NorthWestern Corporation submits tariff filing per 35: NorthWestern Corporation Montana and South Dakota OATT Revisions to be effective 9/29/2010.

Filed Date: 12/23/2010.

Accession Number: 20101223-5105.

Comment Date: 5 p.m. Eastern Time on Thursday, January 13, 2011.

Docket Numbers: ER11-2520-000.

Applicants: Pacific Northwest Generating Cooperative, Inc.

Description: Pacific Northwest Generating Cooperative, Inc. submits tariff filing per 35.37: Triennial Market Power Update to be effective 12/21/2010.

Filed Date: 12/23/2010.

Accession Number: 20101223-5113.

Comment Date: 5 p.m. Eastern Time on Thursday, January 13, 2011.

Docket Numbers: ER11-2521-000.

Applicants: The United Illuminating Company.

Description: The United Illuminating Company submits tariff filing per 35.1: United Illuminating Company's Union Avenue Interconnection Facilities Agreements to be effective 12/24/2010.

Filed Date: 12/23/2010.

Accession Number: 20101223-5116.

Comment Date: 5 p.m. Eastern Time on Thursday, January 13, 2011.

Docket Numbers: ER11-2521-000.

Applicants: The United Illuminating Company.

Description: The United Illuminating Company submits tariff filing per 35.1: United Illuminating Company's Union Avenue Interconnection Facilities Agreements to be effective 12/24/2010.

Filed Date: 12/23/2010.

Accession Number: 20101223-5117.

Comment Date: 5 p.m. Eastern Time on Thursday, January 13, 2011.

Docket Numbers: ER11-2522-000.

Applicants: Southwestern Public Service Company.

Description: Southwestern Public Service Company submits tariff filing per 35.13(a)(2)(iii): 2010_12_23_SPS GSEC-Wolfforth 616-SPS to be effective 12/24/2010.

Filed Date: 12/23/2010.

Accession Number: 20101223-5134.

Comment Date: 5 p.m. Eastern Time on Thursday, January 13, 2011.

Docket Numbers: ER11-2523-000.

Applicants: Colmac Energy, Inc.

Description: Colmac Energy, Inc. submits tariff filing per 35.1: Colmac Energy, Inc. Amendment Filing to be effective 12/23/2010.

Filed Date: 12/23/2010.

Accession Number: 20101223-5135.

Comment Date: 5 p.m. Eastern Time on Thursday, January 13, 2011.

Docket Numbers: ER11-2524-000.

Applicants: Avista Corporation.

Description: Avista Corporation submits tariff filing per 35: Compliance Filing FERC Order 676-E OATT Attach C and Sec 4.2, to be effective 4/1/2011.

Filed Date: 12/27/2010.

Accession Number: 20101227-5000.

Comment Date: 5 p.m. Eastern Time on Tuesday, January 18, 2011.

Docket Numbers: ER11-2525-000.

Applicants: Southwest Power Pool, Inc.

Description: Southwest Power Pool, Inc. submits tariff filing per 35.13(a)(2)(iii): Designated Balancing Authority for Self Provided Losses to be effective 1/1/2011.

Filed Date: 12/27/2010.

Accession Number: 20101227-5050.

Comment Date: 5 p.m. Eastern Time on Tuesday, January 18, 2011.

Docket Numbers: ER11-2526-000.

Applicants: Sagebrush, a California partnership.

Description: Sagebrush, a California partnership submits tariff filing per 35: Attachment C Compliance Filing to be effective 12/28/2010.

Filed Date: 12/27/2010.

Accession Number: 20101227-5054.

Comment Date: 5 p.m. Eastern Time on Tuesday, January 18, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-33159 Filed 1-3-11; 8:45 am]

BILLING CODE 6717-01-P